DEPARTMENT OF TRANSPORTATION

Federal Aviation Administration

14 CFR Part 39

[Docket No. FAA-2007-28382; Directorate Identifier 2006-NM-179-AD; Amendment 39-15382; AD 2008-04-10]

RIN 2120-AA64

Airworthiness Directives; Boeing Model 727 Airplanes

AGENCY: Federal Aviation Administration (FAA), DOT.

ACTION: Final rule.

SUMMARY: We are adopting a new airworthiness directive (AD) for all Boeing Model 727 airplanes. This AD requires revising the FAA-approved maintenance program by incorporating new airworthiness limitations (AWLs) for fuel tank systems to satisfy Special Federal Aviation Regulation No. 88 requirements. This AD also requires the initial inspection of a certain repetitive AWL inspection to phase in that inspection, and repair if necessary. This AD results from a design review of the fuel tank systems. We are issuing this AD to prevent the potential for ignition sources inside fuel tanks caused by latent failures, alterations, repairs, or maintenance actions, which, in combination with flammable fuel vapors, could result in a fuel tank explosion and consequent loss of the airplane.

DATES: This AD is effective March 28, 2008.

The Director of the Federal Register approved the incorporation by reference of a certain publication listed in this AD as of March 28, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Kathrine Rask, Aerospace Engineer, Propulsion Branch, ANM-140S, FAA, Seattle Aircraft Certification Office, 1601 Lind Avenue, SW., Renton, Washington 98057-3356; telephone (425) 917-6505; fax (425) 917-6590.

SUPPLEMENTARY INFORMATION:

Discussion

We issued a notice of proposed rulemaking (NPRM) to amend 14 CFR part 39 to include an airworthiness directive (AD) that would apply to all Boeing Model 727 airplanes. That NPRM was published in the Federal Register on July 6, 2007 (72 FR 36901). That NPRM proposed to require revising the FAA-approved maintenance program by incorporating new airworthiness limitations (AWLs) for fuel tank systems to satisfy Special Federal Aviation Regulation No. 88 requirements. That NPRM also proposed to require the initial inspection of a certain repetitive AWL inspection to phase in that inspection, and repair if necessary.

Comments

We gave the public the opportunity to participate in developing this AD. We considered the comments received from the one commenter.

Changes Made to This AD

For standardization purposes, we have revised this AD in the following ways:

• We have added a new paragraph (i) to specify that no alternative inspections, inspection intervals, or critical design configuration control limitation (CDCCLs) may be used unless they are part of a later approved revision of the Boeing 727-100/200 Airworthiness Limitations (AWLs), D6-8766-AWL, dated March 2006 (hereafter referred to as “Document D6-8766-AWL”), or unless they are approved as an alternative method of compliance (AMOC). Inclusion of this paragraph in an AD is intended to ensure that the AD-mandated airworthiness limitations changes are treated the same as the airworthiness limitations issued with the original type certificate.

• We have simplified the language in Note 1 of this AD to clarify that an operator must request approval for an AMOC if an operator cannot accomplish the required inspections because an airplane has been previously modified, altered, or repaired in the areas addressed by the required inspections.

Change to the Compliance Time

We have revised paragraph (h)(1) of this AD to change the compliance time from units of flight hours to flight cycles, as specified in Document D6-8766-AWL.

Credit for Prior Accomplishment of AWL No. 28-AWL-01

We have added a statement to paragraph (h) of this AD specifying that accomplishment of AWL No. 28-AWL-01 as part of an FAA-approved maintenance program prior to the applicable compliance time specified in paragraph (h)(1) or (h)(2) of this AD constitutes compliance with the requirements of paragraph (h).

Request To Revise Note 1

Boeing requests that we revise Note 1 of the NPRM to clarify the need for an AMOC. Boeing states that the current wording is difficult to follow, and that the note is meant to inform operators that an AMOC to the AWLs document may be required if an operator has previously modified, altered, or repaired in the areas addressed by limitations. Boeing requests that we revise Note 1 as follows:

• Add the words “according to paragraph (g)” at the end of the first sentence.

• Replace the words “revision to” with “deviation from” in the last sentence.

• Delete the words “(g) or” and “as applicable” from the last sentence.

As stated previously, we have simplified the language in Note 1 of this AD for standardization with other similar ADs. The language the commenter requests we change does not appear in the revised note; therefore, no additional change to this AD is necessary in this regard.

Request To Add an Additional Reference to Appendix 1

Boeing requests that we revise Appendix 1 of the NPRM to add an additional Air Transport Association (ATA) section for AWL No. 28-AWL-02. Boeing states that page block 401 of chapter 53-20-11 of the Boeing 727 Airplane Maintenance Manual, Passenger Cabin Floor Panel Removal/Installation, should be included.

We disagree with adding the additional reference, since we have deleted Appendix 1 from this AD. The purpose of Appendix 1 was to assist operators in identifying the maintenance manual tasks that could affect compliance with a CDCCL. However, we have also received several similar comments regarding the appendixes in other NPRMs that address the same unsafe condition on other Boeing airplanes. Those comments indicate that including non-required information in those NPRMs has caused confusion. Further, Document D6-8766-AWL contains most of the information that is listed in Appendix 1 of the NPRM. Therefore, we have removed Appendix 1 from this AD.

Conclusion

We reviewed the relevant data, considered the comments received, and determined that air safety and the public interest require adopting the AD with the changes described previously. We also determined that these changes will not increase the economic burden on any operator or increase the scope of the AD.

Costs of Compliance

There are about 530 airplanes of the affected design in the worldwide fleet. The following table provides the estimated costs, at an average labor rate of $80 per hour, for U.S. operators to comply with this AD.

Estimated Costs
Action | Work hours | Parts | Cost per airplane | Number of U.S.-registered airplanes | Fleet cost
Maintenance program revision | 8 | None | $640 | 272 | $174,080
Inspection | 8 | None | 640 | 272 | 174,080

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-10 Boeing: Amendment 39-15382. Docket No. FAA-2007-28382; Directorate Identifier 2006-NM-179-AD.

Effective Date

(a) This airworthiness directive (AD) is effective March 28, 2008.

Affected ADs

(b) None.

Applicability

(c) This AD applies to all Boeing Model 727, 727C, 727-100, 727-100C, 727-200, and 727-200F series airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (j) of this AD. The request should include a description of changes to the required inspections that will ensure the continued operational safety of the airplane.

Unsafe Condition

(d) This AD results from a design review of the fuel tank systems. We are issuing this AD to prevent the potential for ignition sources inside fuel tanks caused by latent failures, alterations, repairs, or maintenance actions, which, in combination with flammable fuel vapors, could result in a fuel tank explosion and consequent loss of the airplane.

Compliance

(e) You are responsible for having the actions required by this AD performed within the compliance times specified, unless the actions have already been done.

Service Information Reference

(f) The term “Document D6-8766-AWL,” as used in this AD, means Boeing 727-100/200 Airworthiness Limitations (AWLs), D6-8766-AWL, dated March 2006.

Maintenance Program Revision

(g) Before December 16, 2008, revise the FAA-approved maintenance program to incorporate the information in the sections specified in paragraphs (g)(1), (g)(2), (g)(3), and (g)(4) of this AD; except that the initial inspection required by paragraph (h) of this AD must be done at the applicable compliance time specified in that paragraph. Accomplishing the revision in accordance with a later revision of Document D6-8766-AWL is an acceptable method of compliance if the revision is approved by the Manager, Seattle Aircraft Certification Office (ACO), FAA.

(1) Section A, “SCOPE” of Document D6-8766-AWL.

(2) Section B, “FUEL SYSTEMS AIRWORTHINESS LIMITATIONS,” of Document D6-8766-AWL.

(3) Section C, “SYSTEM AWL PAGE FORMAT,” of Document D6-8766-AWL.

(4) Section D, “AIRWORTHINESS LIMITATIONS—FUEL SYSTEMS,” of Document D6-8766-AWL.

Initial Inspection and Repair if Necessary

(h) At the later of the compliance times specified in paragraphs (h)(1) and (h)(2) of this AD, do a detailed inspection of the wire bundles routed over the center fuel tank for damaged clamps, wire chafing, and wire bundles in contact with the surface of the center fuel tank, in accordance with AWL No. 28-AWL-01 of Section D of Document D6-8766-AWL. If any discrepancy is found during the inspection, repair the discrepancy before further flight in accordance with AWL No. 28-AWL-01 of Section D of Document D6-8766-AWL. Accomplishing the actions required by this paragraph in accordance with a later revision of Document D6-8766-AWL is an acceptable method of compliance if the revision is approved by the Manager, Seattle ACO. Accomplishing AWL No. 28-AWL-01 as part of an FAA-approved maintenance program prior to the applicable compliance time specified in paragraph (h)(1) or (h)(2) of this AD constitutes compliance with the requirements of this paragraph.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Prior to the accumulation of 36,000 total flight cycles, or within 120 months since the date of issuance of the original standard airworthiness certificate or the date of issuance of the original export certificate of airworthiness, whichever occurs first.

(2) Within 72 months after the effective date of this AD.

No Alternative Inspections, Inspection Intervals, or CDCCLs

(i) After accomplishing the applicable actions specified in paragraphs (g) and (h) of this AD, no alternative inspections, inspection intervals, or CDCCLs may be used unless the inspections, intervals, or CDCCLs are part of a later revision of Document D6-8766-AWL that is approved by the Manager, Seattle Aircraft Certification Office (ACO), FAA; or unless the inspections, intervals, or CDCCLs are approved as an AMOC in accordance with the procedures specified in paragraph (j) of this AD.

Alternative Methods of Compliance (AMOCs)

(j)(1) The Manager, Seattle ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(k) You must use Boeing 727-100/200 Airworthiness Limitations (AWLs), D6-8766-AWL, dated March 2006, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on February 13, 2008.
Stephen P. Boyd,
Assistant Manager, Transport Airplane Directorate, Aircraft Certification Service.

[FR Doc. E8-3069 Filed 2-21-08; 8:45 am]

BILLING CODE 4910-13-P